DEPARTMENT OF THE INTERIOR

Office of the Secretary

Proposed Alternative Dispute Resolution (ADR) Pilot Referral Program for Interior Board of Land Appeals

AGENCY: Office of the Secretary, Interior.

ACTION: Notice.

SUMMARY: The Office of Hearings and Appeals (OHA), Department of the Interior (DOI), in collaboration with DOI's Office of Collaborative Action and Dispute Resolution (CADR) and the U.S. Institute for Environmental Conflict Resolution, has developed an alternative dispute resolution (ADR) pilot referral program for the Interior Board of Land Appeals (IBLA). The IBLA pilot program is one component of a Department-wide effort to expand the appropriate use of ADR processes to address environmental, public lands, and natural resources disputes involving DOI's bureaus and offices. OHA is making available for public review and comment a number of documents that describe and will be used to implement the IBLA pilot program.

DATES: To be considered, written or electronic comments on the IBLA pilot program must be received on or before January 14, 2005.

ADDRESSES: Interested parties are invited to submit comments on the IBLA pilot program. You may submit comments by any of the following methods:

• Mail: Submit written comments to the Interior Board of Land Appeals, Office of Hearings and Appeals, U.S. Department of the Interior, 801 N. Quincy Street, Suite 300, Arlington, VA 22203.

• Fax: Send comments by facsimile to the Interior Board of Land Appeals at (703) 235-8349.

• Direct Internet Response: Submit electronic comments by following the instructions for submitting comments provided at the following Web site: http://www.blm.gov/nhp/news/regulatory/index.htm.

Received comments will be available for public review. Comments may be inspected between 9 a.m. and 4 p.m., Monday through Friday, at the address provided above. Comments may also be viewed electronically at the Web site listed above.

FOR FURTHER INFORMATION CONTACT: Sara Greenberg, Dispute Resolution Specialist, Office of Hearings and Appeals, U.S. Department of the Interior, 801 N. Quincy Street, Suite 300, Arlington, VA 22203, 703-235-3750.

SUPPLEMENTARY INFORMATION: The IBLA pilot program has two main components:

• During the initial case docketing process, IBLA will alert parties to the availability of voluntary ADR processes to achieve settlement of their appeals.

• Following a preliminary review of the appeal, IBLA will select, through use of ADR suitability criteria, appeals that may be appropriate for direct negotiation, assisted negotiation/mediation, or other ADR processes (for example, joint fact-finding).

The IBLA pilot program is intended to educate parties about the potential for ADR and offer them an opportunity to develop creative solutions to their disputes, thereby reducing the expense and time involved in the appeals process and potentially limiting further litigation.

The documents for public review and comment include the following:

• A description of the IBLA pilot program;

• A one-page “ADR Referral Data Sheet,” containing general information about ADR, which would be included with the docketing notice sent to the parties in each case;

• An “IBLA Pilot ADR Referral Program Information Sheet,” which includes more detailed information about the pilot referral program and which would be sent to parties whose appeals are identified as suitable for ADR or who request further information; and

• Responses to Frequently Asked Questions.

Electronic copies of the documents for public review can be viewed at the Bureau of Land Management Regulatory Actions Web site, http://www.blm.gov/nhp/news/regulatory/index.htm. To view the documents, go to the Web site and click on “Web based automated regulations comment system”; select “Interior Board of Land Appeals” and “View/Create Comments for Open Regulations”; click on the link for IBLA; click on “Pilot Alternative Dispute Resolution (ADR) Referral Program”; and then click on the available documents.

Electronic versions of the documents are also available on the CADR Web site at http://www.doi.gov/cadr/. Click on the link for the Office of Hearings and Appeals.

Hard copies of the documents can be obtained from the Interior Board of Land Appeals, Office of Hearings and Appeals, U.S. Department of the Interior, 801 N. Quincy Street, Suite 300, Arlington, VA 22203, 703-235-3750.

The development and implementation of the IBLA pilot program is authorized by the Administrative Dispute Resolution Act of 1996, 5 U.S.C. 571-584.

Dated: December 6, 2004.
Robert S. More,
Director, Office of Hearings and Appeals.

[FR Doc. 04-27453 Filed 12-14-04; 8:45 am]

BILLING CODE 4310-79-P